ELECTION ASSISTANCE COMMISSION

Sunshine Act Meeting: HAVA at 20

AGENCY: U.S. Election Assistance Commission.

ACTION: Sunshine Act notice; notice of public meeting agenda.

SUMMARY: Public Meeting: HAVA at 20: Building Trust in Elections.

DATES: Thursday, September 1, 2022, 11 a.m. to 8:30 p.m. (PT).

ADDRESSES: 24255 Pacific Coast Highway, Malibu, CA 90263.

The roundtable discussion is open to the public, and will be held at the Pepperdine University School of Public Policy, and will also be livestreamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will hold an open meeting to discuss the advances made in election administration since the signing of the Help America Vote Act of 2002 (HAVA) and the future of elections.

Agenda: In recognition of the 20th Anniversary of the signing of the Help America Vote Act of 2002 (HAVA) and the 25th anniversary of Pepperdine's School of Public Policy, the U.S. Election Assistance Commission and Pepperdine University will host a public meeting, “HAVA at 20: Building Confidence in Elections” featuring discussions with election officials and subject matter experts on confidence in elections, security and technology in elections, current issues in election administration, and the future of elections.

The panels will begin with “Confidence in Elections” to discuss data identifying trends and ways to address the challenges of mis- and dis-information, and approaches to improve confidence. The “Security and Technology in Elections” panel will discuss how technology has transformed American elections over the last two decades, the role of election officials as IT managers, the increased coordination between government and private sector partners to keep elections secure, and how election officials are handling the physical and cyber threats. “Current Issues in Election Administration (Clearinghouse/HAVA Grants)” will discuss election funding through HAVA and the impact those grants have had on supporting elections during critical moments over the last 20 years. The panel will also address the importance of exchanging information on election practices and procedures and what additional challenges lie ahead. The final panel, “Future of Elections—HAVA 20 Years From Now,” will discuss how HAVA is still relevant, how elections will evolve in the future, and what can be done to continue confidence in our elections. The full agenda will be posted in advance on the EAC website: https://www.eac.gov.

The event will be livestreamed and recorded. The recording will be made available on the EAC website at a later date.

As space is limited, attendees are encouraged to register. Registration instructions and additional event information will be posted on the EAC event web page: https://www.eac.gov/events/2022/09/01/eac-and-pepperdine-university-hava-20-building-trust-elections.

Schedule:

Lunch and Keynote Address—11-12 PT

Panel Discussions—12:15-5:30 PT

Evening Reception—6:30-8:30 PT

Background: As part of the Help America Vote Act of 2002 (HAVA) efforts to improve voting processes, the EAC was established as an independent and bipartisan commission to develop guidance to meet the various HAVA requirements. These responsibilities include a national clearinghouse of resources, adopting voluntary voting system guidelines, certifying voting systems, auditing the use of HAVA funds, and more. This event is being held because 2022 is the 20th anniversary of HAVA. This year also marks the 25th anniversary of Pepperdine University School of Public Policy.

Status: This roundtable discussion will be open to the public.

Camden Kelliher,
Associate Counsel, U.S. Election Assistance Commission.

[FR Doc. 2022-17654 Filed 8-12-22; 11:15 am]

BILLING CODE P